ENVIRONMENTAL PROTECTION AGENCY

[FRL-6483-5]

Draft General NPDES Permit for Seafood Processors in Alaska in Waters of the United States; General NPDES Permit No. AK-G52-0000

AGENCY: Environmental Protection Agency, Region 10.

ACTION: Notice of Draft General NPDES Permit.

SUMMARY: The Director, Office of Water, EPA Region 10, is proposing to reissue general National Pollutant Discharge Elimination System (NPDES) permit no. AK-G52-0000 for seafood processors in Alaska pursuant to the provisions of the Clean Water Act (CWA) 33 U.S.C. 1251 et seq. The proposed general NPDES permit will authorize discharges from off-shore and near-shore vessels and shore-based facilities engaged in the processing of fresh, frozen, canned, smoked, salted and pickled seafoods. The proposed permit will also authorize discharges from off-shore vessels (operating more than one nautical mile from shore at MLLW) that are engaged in the processing of seafood paste, mince or meal, as well as fresh, frozen, canned, smoked, salted and pickled seafoods. The proposed permit will authorize discharges of processing wastes, process disinfectants, sanitary wastewater and other wastewaters, including domestic wastewater, gray water, cooling water, boiler water, fresh water pressure relief water, refrigeration condensate, water used to transfer seafood to a facility, and live tank water. The proposed permit will authorize discharges to waters of the United States in and contiguous to the State of Alaska, except for receiving waters excluded from coverage as protected, special, at-risk, degraded waters, or as waters adjacent to the City of Kodiak or the Pribilof Islands (and covered by general permits specific to each of these areas).

The proposed general NPDES permit for seafood processors in Alaska will not authorize discharges from near-shore or shore-based seafood processors of mince, paste or meal (operating one nautical mile or less from shore at MLLW). The proposed permit will not authorize discharges of petroleum hydrocarbons, toxic pollutants, or other pollutants not specified in the permit.

This is the fourth reissuance of a general permit for seafood processors in Alaska. While the general permit for seafood processors issued in 1995 contained numerous substantial changes, the proposed 2000 permit contains one major change. The major new provision in the proposed general permit is a limit on the total annual load of settleable solid seafood processing waste. The total allowable residues of offal for permittees covered under the proposed permit must not exceed eight million pounds per year (based on deposition modeling using EPA's Water Quality Analysis Simulation Program).

Other minor changes in the proposed permit clarify requirements of the Notice of Intent to be covered and give specific schedules for submitting seafloor monitoring surveys. EPA anticipates that the State of Alaska Department of Environmental Conservation will certify a 100 foot mixing zone for all discharges and zone of deposit of one acre for near-shore and shore-based dischargers.

A draft NPDES permit, fact sheet and other documents of the administrative records are available upon request.

Public Notice Issuance Date: April 28, 2000

Public Notice Expiration Date: June 12, 2000

Public Comments

Persons wishing to comment on the tentative requirements and conditions contained in the proposed general permit may do so before the expiration date of the public notice. EPA appreciates both supportive and critical comments in this public review and comment period. All persons, including applicants, who believe any condition of a draft permit is inappropriate or that the Director's tentative decision to prepare this draft permit is inappropriate, must raise all reasonably ascertainable issues and submit all reasonably available arguments supporting their position by the close of the public comment period. Any supporting materials which are submitted shall be included in full and may not be incorporated by reference, unless they are already part of the administrative record or are a generally available document or reference. All written comments must include the name, address, and telephone number of the commenter and must be submitted to EPA to the attention of Burney Hill at the address below on or before the expiration date of the public notice.

After the expiration date of the public notice, the Director, Office of Water, EPA Region 10, will make a final determination with respect to reissuance of the general permit. The tentative requirements contained in the draft general permit will become final conditions if no substantive comments are received during the public comment period. The permit will become effective on August 5, 2000.

Within 120 days following the service of notice of EPA's final permit decision under 40 CFR 124.15, any person who filed comments on the draft permit or participated in the public hearing may appeal the permit in the Federal Court of Appeals in accordance with section 509(b)(1) of the CWA. Persons affected by a general permit may not challenge the conditions of the Permit as a right of further EPA proceedings.

In addition to the tentative requirements of the draft general permit, the State of Alaska will issue a Determination of Consistency with the Alaska Coastal Management Program and State Certification which may contain specific requirements which will be incorporated into the final permit. Persons wishing to comment on the State Certification should contact Judy Kitagawa of the Alaska Department of Conservation, Valdez, at (907) 835-4698.

The following project is proposed in coastal zone areas throughout Alaska and also is being reviewed for consistency with the Alaska Coastal Management Program. Comments, particularly on the proposed project's consistency with the affected local coastal district management programs, are requested. Persons wishing to comment on the State Determination of Consistency with the Alaska Coastal Zone Management Plans should contact Maureen McCrea at (907) 269-7473. To be considered, written comments must be submitted to the Office of Management and Budget, Division of Governmental Coordination, 550 West Seventh, Anchorage, Alaska 99501, Fax: 907-269-3981, and must be received by 5:00 p.m. on May 31, 2000. Comments regarding inconsistency with an affected coastal district's enforceable policy or a state standard set out in 6 AAC 80.040-6 AAC 80.150 must identify the enforceable policy or standard and explain how the project is inconsistent.

Public Hearing

A public hearing has tentatively been scheduled for June 1, 2000, from 3 p.m. to 5 p.m. to be held in Anchorage, Alaska, room 135, Federal Building. However, this public hearing will be canceled if there is no written request for a public hearing. A public workshop is planned for June 1, 2000, for all interested parties. Details of this public workshop will be sent to all interested parties.

Administrative Record

The complete administrative record for the draft permit is available for public review. Contact Florence Carroll at the address below to view the administrative record. Copies of the draft general NPDES permit and fact sheet are available upon request; call Florence Carroll at 1-800-424-4EPA (4372) (within Region 10 only) or (206) 553-1760 or email your request to “epa-seattle@epa.gov”. The draft permit, the fact sheet, and the public notice will be available April 28, 2000, on Region 10's website: “www.epa.gov/r10earth/water.htm”.

ADDRESSES: Public comments should be sent to: Environmental Protection Agency Region 10, NPDES Permit Unit (OW-130), Attn: Burney Hill, 1200 Sixth Avenue, Seattle, Washington, 98101.

FOR FURTHER INFORMATION CONTACT: Florence Carroll, of EPA Region 10, at the address listed above or telephone (206) 553-1760 or e-mail “carroll.florence@epa.gov” or Burney Hill, of EPA Region 10, at the address listed above or telephone (206) 553-1761 or e-mail “hill.burney@epa.gov”.

Regulatory Flexibility Act

Under the Regulatory Flexibility Act (RFA), 5 U.S.C. 601 et seq., a federal agency must prepare an initial regulatory flexibility analysis “for any proposed rule” for which the agency “is required by section 553 of [the Administrative Procedure Act (APA)], or any other law, to publish general notice of proposed rulemaking.” The RFA exempts from this requirement any rule that the issuing agency certifies “will not, if promulgated, have a significant economic impact on a substantial number of small entities.” EPA has concluded that NPDES general permits are permits under the APA and thus not subject to APA rulemaking requirements or the RFA. Notwithstanding that general permits are not subject to the RFA, EPA has determined that this general permit, if issued, will not have a significant economic impact on a substantial number of small entities.

Authority: Clean Water Act, 33 U.S.C. 1251 et seq.

Dated: April 13, 2000.
Christine Psyk,
Acting Director, Office of Water.

[FR Doc. 00-10037 Filed 4-19-00; 8:45 am]

BILLING CODE 6213-01-P